DEPARTMENT OF COMMERCE

International Trade Administration

Rutgers, The State University of New Jersey, et. al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). On June 24, 2021,the Department of Commerce published a notice in the Federal Register requesting public comment on whether instruments of equivalent scientific value, for the purposes for which the instruments identified in the docket(s) below are intended to be used, are being manufactured in the United States. See Application(s) for Duty-Free Entry of Scientific Instruments, 86 FR33223-24, June 24, 2021 (Notice). We received no public comments.

Docket Number: 19-018. Applicant: Rutgers, The State University of New Jersey, Physics and Astronomy Department, 136 Frelinghuysen Road, Piscataway, NJ 08854. Instrument: Tube Furnace, Box furnace, Sic Heater, MoSi2 Heater. Manufacturer: He Nan Nobody Materials Science and Technology, China. Intended Use: According to the applicant, the instrument will be used to study various physical properties in strongly correlated materials such as high-temperature superconductors, topological insulators or multiferroics. New materials will be conducted that have unique electric and magnetic properties using various crystal growth techniques such as flux, solid reaction, or chemical vapor transport. To identify grown materials X-ray diffraction and Laue diffraction will be employed. High-quality crystals will be further investigated with a physical property measurement system and a magnetic property measurement system to obtain their electric and magnetic properties in varying conditions of temperature, electric and magnetic fields.

Docket Number: 20-001. Applicant: Rutgers, The State University of New Jersey, Physics and Astronomy Department, 136 Frelinghuysen Road, Piscataway, NJ 00854. Instrument: CZekalski furnace (Crystal grower). Manufacturer: Sipat Co., Ltd., China. Intended Use: According to the applicant, the instrument will be used to study the physical properties of oxide and/or metallic materials and various physical phenomena based on strongly correlated materials such as high temperature superconductors, topological insulators or multiferroics. Electronic and/or magnetic properties of new oxide and/or metallic materials will be investigated. The growth of new materials will be conducted which have unique electric and magnetic properties using purchased crystal grower. To identify grown materials X-ray diffraction and Laue diffraction will be employed. The magnetic property measurement system obtains its electric and magnetic properties in varying conditions of temperature, electric and magnetic fields.

Docket Number: 20-013. Applicant: Fermi Research Alliance, FRA. Instrument: Linac Coherent Light Source (LCLS-II) Upper Cold Mass Assemblies and Vacuum Vessels. Manufacturer: Wuxi Creative Technologies Company LTD WXCX, China. Intended Use: According to the applicant, the instrument will be used to study the cryomodules that will be used for scientific research, including the studies of elementary particles. Each assembly is an essential component necessary to build a cryomodule. LCLS-II upgrade includes three types of components (1) vacuum vessels for the 1.2 GHz cryomodules; (2) cold-mass assemblies for the 1.3 GHz; and (3) cold-mass assemblies for the cryomodules. These components will also be included in the complete assembly of the LCLS-II cryogenic cooling system, which insulates, provides and refreshes liquified helium gas. LCLS-II is a planned upgrade project for the free-electron laser facility located at SLAC. LCLS-II will consist of thirty-five (35) 1.3 GHz and two (2) 3.9 GHz superconducting radio frequency (RF) continuous wave (CW) cryomodules that Fermilab and Jefferson Lab are producing in collaboration with SLAC. The LCLS-II will enable new experiments and research in six broad areas: (1) Fundamental dynamics of energy and charge in atoms and molecules; (2) catalysis, photo-catalysis, environmental, and coordination chemistry; (3) quantum materials; (4) non-scale heterogeneity, fluctuations, and dynamics of functional materials; (5) matter in extreme environments; and (6) biological function on natural length and time scales.

Dated: July 16, 2021.
Richard Herring,
Director, Subsidies Enforcement, Enforcement and Compliance.

[FR Doc. 2021-15581 Filed 7-21-21; 8:45 am]

BILLING CODE 3510-DS-P